DEPARTMENT OF TRANSPORTATION

Federal Highway Administration

Notice of Final Federal Agency Actions on Proposed I-15 Corridor Project in California

AGENCY: Federal Highway Administration (FHWA), DOT.

ACTION: Notice of limitation on claims for judicial review of actions by the California Department of Transportation (Caltrans), pursuant to 23 U.S.C. 327 and U.S. Army Corps of Engineers (USACE).

SUMMARY: The FHWA, on behalf of Caltrans, is issuing this notice to announce actions taken by Caltrans, and USACE that are final. The actions relate to a proposed highway project, Interstate 15 in the cities of Eastvale, Jurupa Valley, Ontario, Rancho Cucamonga, and Fontana, in San Bernardino County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before August 19, 2019. If the Federal law that authorizes judicial review of a claim provides a time period of less than 150 days for filing such claim, then that shorter time period still applies.

FOR FURTHER INFORMATION CONTACT: For Caltrans: Shawn Oriaz, Senior Environmental Planner, California Department of Transportation (Caltrans), District 8, 464 West 4th Street, MS-827, San Bernardino, CA 92401-1400, 8 a.m. to 4 p.m., (909) 388-7034, shawn.oriaz@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans, have taken final agency actions subject to 23 U.S.C. 139(l)(1) by issuing licenses, permits, and approvals for the following highway project in the State of California: Construct Express Lanes, including tolled facilities, in both directions of Interstate 15 from approximately 0.3 miles south of Cantu-Galleano Ranch Road in the cities of Eastvale and Jurupa Valley at Post Mile 49.8 in Riverside County to approximately 1.2 miles north of Duncan Canyon Road at Post Mile 12.2 in the City of Fontana in San Bernardino County. The actions by the Federal agencies, and the laws under which such actions were taken, are described in the Environmental Assessment with Finding of No Significant Impacts for the project EA/FONSI), approved on December 20, 2018. The EA/FONSI and other project records are available by contacting Caltrans at the addresses provided above. The Caltrans EA/FONSI can be viewed and downloaded from the project website: www.gosbcta.com/i15corridor. This United State Army Corps of Engineers (USACE) decision and permit Clean Water Act Section 404 Nationwide Permit are available by contacting Caltrans at the address provided above, and can be viewed and downloaded from the project website: www.gosbcta.com/i15corridor. This notice applies to all Federal agency decisions as of the issuance date of this notice and all laws under which such actions were taken, including but not limited to

1. Council on Environmental Quality regulations

2. National Environmental Policy Act of 1969, as amended

3. Department of Transportation Act of 1996

4. Federal Aid Highway Act of 1970 Section 109(h)

5. Clean Air Act Amendments of 1990

6. Department of Transportation Act of 1966; Section 4 (f)

7. Clean Water Act of 1977 and 1987

8. Endangered Species Act of 1973

9. Executive Order 13186, Migratory Birds

10. National Historic Preservation Act of 1966, as amended (section 106)

11. Historic Sites Act of 1935

12. Executive Order 11990, Protection of Wetlands

13. Executive Order 13112, Invasive Species

14. Executive Order 11988, Floodplain Management

15. Executive Order 12898, Environmental Justice

16. Farmland Protection Policy Act of 1981

17. Fish and Wildlife Coordination Act of 1934, as amended

18. Migratory Bird Treaty Act of 1918, as amended

19. Noise Control Act of 1972

20. Title VI of the Civil Rights Act of 1964, as amended

(Catalog of Federal Domestic Assistance Program Number 20.205, Highway Planning and Construction. The regulations implementing Executive Order 12372 regarding intergovernmental consultation on Federal programs and activities apply to this program.)

Authority: 23 U.S.C. 139(l)(1).

Issued on: March 18, 2019.
Tashia J. Clemmons,
Director, Planning and Environmental, Federal Highway Administration, Sacramento, California.

[FR Doc. 2019-05557 Filed 3-21-19; 8:45 am]

BILLING CODE 4910-RY-P